DEPARTMENT OF ENERGY

Federal Energy Regulatory Commission

[Docket No. RP00-423-000]

Discovery Gas Transmission LLC; Notice of Compliance Filing

August 7, 2000.

Take notice that on August 1, 2000, Discovery Gas Transmission LLC (Discovery), filed original and revised tariff sheets to remove tariff provisions that are inconsistent with the Commission's decision in Order No. 637 to remove the rate ceiling on capacity release transactions of less than one year, and to modify eligibility requirements for right of first refusal. Discovery proposes an effective date of September 1, 2000.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20360 Filed 8-10-00; 8:45 am]

BILLING CODE 6717-01-M